DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Central Valley Angler Survey.

OMB Control Number: 0648-xxxx.

Form Number(s): None.

Type of Request: Regular (request for a new information collection).

Number of Respondents: 11,447.

Average Hours per Response: Telephone screener, 5 minutes; mail survey, 25 minutes.

Burden Hours: 1,579.

Needs and Uses: This request is for a new information collection.

The National Marine Fisheries Service (NMFS) plans to collect data to increase the agency's understanding of the fishing patterns, preferences, and expenditures of anglers who fish in the rivers of California's Central Valley. NMFS has engaged in major habitat restoration in the Central Valley to promote recovery of three ESA-listed salmonids (Sacramento River winter Chinook, Central Valley spring Chinook, Central Valley steelhead). The survey is intended to estimate the economic impact of the Central Valley recreational fishery and potential recreational benefits associated with habitat restoration such as improved fish passage. Information to be collected pertains to anglers' recreational fishing patterns, expenditures and demographics, and factors affecting trip frequency and location (e.g., travel distance, amenities, landscape features as well as quality of fishing). The data collected will provide NMFS, as well as state agency partners such as the California Department of Fish and Wildlife, with information useful for understanding the economic importance of Central Valley fisheries and potential recreational benefits associated with salmonid habitat restoration.

Affected Public: Individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: November 13, 2014.
Glenna Mickelson,
Management Analyst, Office of the Chief Information Officer.

[FR Doc. 2014-27239 Filed 11-17-14; 8:45 am]

BILLING CODE 3510-22-P